DEPARTMENT OF ENERGY

Secretary of Energy Advisory Board

AGENCY: Department of Energy.

ACTION: Notice of open meeting correction.

On March 17, 2003, the Department of Energy published a notice of open meeting announcing a meeting of the Secretary of Energy Advisory Board on April 1, 2003 at the Hyatt Sainte Claire Hotel, 302 S. Market Street, San Jose, California 95113 (68 FR 12690). In that notice the time of the meeting was announced as 8:30 A.M to 12:30 P.M. Today's notice announces that the time of the meeting has been revised to 9 A.M. to 12:30 P.M. The date and location of the meeting are unchanged.

Issued at Washington, DC, on March 21, 2003.
Rachel M. Samuel,
Deputy Advisory Committee Management Officer.

[FR Doc. 03-7232 Filed 3-25-03; 8:45 am]

BILLING CODE 6450-01-P